DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of February and March, 2000.

In order for an affirmative determination to be made and a certification of eligibility to apply for worker adjustment assistance to be issued, each of the group eligibility requirements of Section 222 of the Act must be met.

(1) That a significant number of proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-36,694; Weathervane Window, Inc., Brighton, MI

TA-W-37-216; AK Steel Corp., Dover Operations, Dover, OH

TA-W-37,169; Shepard Airtronics, Inc., Passaic, NJ

TA-W-37,106; Oxford Automotive, Argos, IN

TA-W-37,211; Masonite Corp., Pilot Rock, OR

TA-W-37,142, A & B; Mitchell Energy Corp., The Woodlands, TX Operating Throughout the State of TX and Ruston, LA, Mitchell Gas Service LP, The Woodlands, TX & Operating Throughout the State of TX and MND Service, Inc., The Woodlands, TX

In the following cases, the investigation revealed that the criteria for eligibility have not been met for the reasons specified.

TA-W-37,102; Fisher-Price, Inc., Mattel Operations Group, East Aurora, NY

TA-W-37,264; KTI Energy of Martinsville, Inc., Martinsville, VA

TA-W-37,292; Deepwater Corrosion Services, Houston, TX

TA-W-37,229; L.G.&E Natural Gathering & Processing, Hobbs, NM

TA-W-37,249; Snap-On, Inc., Ottawa, IL

TA-W-37,001; AMP, Inc., Harrisburg, PA

TA-W-37,316; Lower Umpqua Federal Credit Union, Reedsport, OR

TA-W-37,240; Chevron Products Co., Roosevelt, UT

TA-W-37,313; Pacificorp, Shareholder Service & Investor Relations Dept, Portland, OR

TA-W-37,023; Cerplex, Corvallis, OR

TA-W-37,080, & A; Pratt & Whitney, Pratt and Whitney Talon, Inc., Rocky Hill, CT and Pratt & Whitney Advance Refurbishment Operations, Inc., North Haven, CT

TA-W-37,217; Penguin Putnam, Inc., Book Warehouse, Newburn, TN

The workers firm does not produce an article as required for certification under Section 222 of the Trade Act of 1974.

TA-W-37,325; Serrot International, Galesburg, IL

TA-W-36,984; Rheem Manufacturing Co., Air Conditioning Div., Greenville, AL

TA-W-36,078; Unocal Corp., The Geysers, Cloverdale, CA

TA-W-37,082; OMC, Evinrude Plant, Milwaukee, WI

TA-W-37,076; Appleton Paper, Inc, Newton Falls Mill, Newton Falls, NY

TA-W-37,063; Kellogg Co., South Operations Plant, Battle Creek, MI

TA-W-37,131; Chevron Chemical Corp., Orange, TX

TA-W-37,218; Bausch & Lomb, Contact Lenses Div., Rochester, NY

TA-W-36,960 & A, B, C, D, E & F; CNG Transmission Corp., Clarksburg, WV, Hope Gas, Inc., Clarksburg, WV, East Ohio Gas, Cleveland, OH, Virginia Natural Gas, Norfolk, VA, CNG Producing Co., New Orleans, LA, Peoples Natural Gas Co., Pittsburgh, PA and CNG Corp., Pittsburgh, PA

TA-W-37,060; Liz Clairborne, North Bergen, NJ

TA-W-37,244; Motorola, Inc., Cellular Infrastructure Group (CIG), Arlington Heights, IL

TA-W-37,016; Deluxe Corp., Financial Service Div., Springfield, MA

TA-W-37,318; Grifel & Lebel, Inc., New York, NY

TA-W-37,221; Weigh-Tronix, Inc., Fairmont, MN

TA-W-37,250; BP Amoco Refinery, Texas City, TX

TA-W-37,002; Sparrow Blouse Co., Nazareth, PA

TA-W-36,903 & A; UNIFI, Inc., Raeford Plant, Raeford, NC and Sanford Plant, Sanford, NC

TA-W-35,631 & B, C, D, E, F, G, H, I, K, L, & M; Burlington Industries, Statesville Plant, Statesville, NC, J.C. Cowan Plant, Forest City, NC, Raeford Plant, Raeford, NC, Raeford Dying Plant, Raeford, NC, Oxford Plant, Oxford, NC, Burlington Tailored Fashions Div. Offices, Greensboro, NC, Klopman Fabrics Div Office, Greensboro, NC, Bishopville Plant, Bishopville, SC, Johnson City Plant, Johnson City, TN, Burlington Tailored Fashions, Clarksville, VA, Stonewall Cutting Plant, Stonewall, MS, and Burlington Tailored Fashions, New York, NY

Increased imports did not contribute importantly to worker separations at the firm.

TA-W-37,291; IMC Kalium, Carlsbad, NM

TA-W- Kemmer Prazision, Janesville, WI

The investigation revealed that criteria (2) and criteria (3) have not been met. Sales or production did not decline during the relevant period as required for certification. Increases of imports of articles like or directly competitive with articles produced by the firm or an appropriate subdivision have not contributed importantly to the separations or threat thereof, and the absolute decline in sales or production.

Affirmative Determinations for Worker Adjustment Assistance

The following certifications have been issued; the date following the company name and location of each determination references the impact date for all workers of such determination.

TA-W-35,631A & J; Burlington Industries, Mooresville Plant, Mooresville, NC and Hillsville Plant, Hillsville, VA: January 29, 1998.

TA-W-37,083; Hempfield Foundries Co., Greensburg, PA: November 9, 1998.

TA-W-37,059; Allied Signal, Avionics and Lighting, Boyne City, MI: October 27, 1998.

TA-W-37,195; Vinant Dress, Inc., Jermyn, PA: December 10, 1998.

TA-W-37,151; Hagale Industries, Inc., Marshfield, MO: November 23, 1998.

TA-W-37,163; White Swan—Meta, Dawson Springs, KY: December 2, 1998.

TA-W-37,256; ABB Automation, Inc., Electronic & Systems Assembly Div., Williamsport, PA: December 28, 1998.

TA-W-37,272; Winpak Portion Packaging, Bristol, PA: January 7, 1999.

TA-W-37,156; Ray-Ban Sun Optics, Inc., San Antonio, TX: November 20, 1998.

TA-W-37,160 & A,B,C; Dexter Shoe Co., Dexter, ME, Milo, ME, Skowhegan, ME and Newport, ME: February 4, 2000.

TA-W-37,199; Sulzer Pumps, Portland, OR: December 7, 1998.

TA-W-37,178; VF Workwear, Inc., Erwin, TN: November 30, 1998.

TA-W-37,138; Headwear USA, d/b/a, Identity Headwear, Pattonsburg, MO: November 18, 1998.

TA-W-37,186; Avdel Cherry Textron, Inc., Parsippany, NJ: December 8, 1998.

TA-W-37,324 7 A; The Williamson Co., Fairfield, IL and Mt. Vernon, IL; January 26, 1999.

TA-W-37,198; Sea Gull Lighting Products, Inc., Philadelphia, PA: December 6, 1998.

TA-W-37,132; Eileen Fisher, Inc., Irvington, NY: November 3, 1998.

TA-W-37,202 & A; Jockey International, Inc., Carlisle, KY and Mt. Sterling, KY: November 29, 1998.

TA-W-37,210; Cooper-Standard Automotive, Gaylord, MI: December 9, 1999.

TA-W-37,052; Metric Products, Inc., Culver City, CA: October 12, 1998.

TA-W-37,191; Arctic Pipe Inspection, Inc., Prudhoe Bay, AK: December 14, 1998.

TA-W-37,265; O'Bryan Brothers, Inc., Richland Center, WI: January 10, 1999.

TA-W-37,203; Braun Thermoscan, San Diego, CA: December 10, 1998.

TA-W-36,993; Modern Manufacturing Co., Los Angeles, CA: October 12, 1998.

TA-W-37,214 & A,B; Fox Point Sportswear, Inc., Merrill, WI, Bruce, WI, and Ironwood, MI: December 20, 1998.

TA-W-37,162; Allen Telecom-Solon, Solon, OH: December 3, 1998.

TA-W-37,232; Thomas Bradford Shirt Co., Huntington, TN: December 23, 1998.

TA-W-37,172; Rossmor Industries, Twinsburg, OH: November 19, 1998.

TA-W-37,170; International Service Group, Elizabeth, NJ: July 19, 1999.

TA-W-37,104; F.N. Burt Co., Inc., Buffalo, NY: November 9, 1998.

TA-W-37,261; Ithaca Industries, Glennville, GA: January 6, 1999.

TA-W-37,278; Cheraw Dyeing & Finishing, A. Div. of Piece Dye Acquisition Corp., Cheraw, SC: January 11, 1999.

TA-W-37,090 & A; SAS' SA Limited Sylvester, GA and Baxley, GA: November 4, 1998.

TA-W-36,847; Iron Horse Products, Inc., Port Huron, MI: September 2, 1998.

TA-W-37,254; Sony Electronics, Inc., Frackville, PA: January 6, 1999.

TA-W-37,026; Brunswick Bicycles, Olney, IL: October 18, 1998.

TA-W-37,184; Yates Foil USA, Bordentown, NJ: December 3, 1998.

TA-W-37,277; Partlow West Co., New Hartford, NY: January 13, 1999.

TA-W-36,977; Georgia Pacific Corp., Superwood Div., Bemidji, MN: October 13, 1998.

TA-W-37,129 & A, B, C; The Boeing Co., Commercial Airplace Group, Puget Sound Region, WA, Spokane, WA, Portland, OR and Wichita, KS: March 24, 1999.

TA-W-37,161; Bailey Creation, York, AL: November 30, 1998.

TA-W-37,046; Mobius, Inc., Eugene, OH: October 26, 1998.

TA-W-37,154; Phillips-Joanna, Ladd, IL: November 23, 1998.

TA-W-37,181; Trend Manufacturing, Parsons, KS: November 30, 1998.

TA-W-37,274; Fasco Motors, Eldon, MO: January 4, 1999.

TA-W-37,290; Ochoco Lumber Co., d/b/a Malheur Lumber Co., John Day, OR: January 10, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of February and March, 2000.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03665; Cooper Industries, Cooper Lighting, Elk Grove Village, IL

NAFTA-TAA-03611; Headwear USA, d/b/a Identity Headwear, Pattonsburg, MO

NAFTA-TAA-03646; Sea Gull Lighting Products, Inc., Philadelphia, PA

NAFTA-TAA-03669; Mineral Ridge Resources, Inc., Silver Peak, NV

NAFTA-TAA-03507; Oxford Automotive, Argos, IN

NAFTA-TAA-03605; Kellogg Co., South Operations Plant, Battle Creek, MI

NAFTA-TAA-03630; Allied Signal Aerospace, Environmental Control Systems Div., Ocala, FL

NAFTA-TAA-03587; Chevron Chemical Corp., Orange, TX

NAFTA-TAA-03638; A,B; Fox Point Sportswear, Inc., Merrill, WI, Bruce, WI and Ironwood, MI

NAFTA-TAA-03556; Appleton Paper, Inc., Newton Falls Mill, Newton Falls, NY

NAFTA-TAA-03598; Phillips-Joanna, Ladd, IL

NAFTA-TAA-03530; Deluxe Corp., Financial Services Div., Springfield, MA

NAFTA-TAA-03547; Outboard Marine Corp., Milwaukee, WI.

NAFTA-TAA-03317; Weathervane Window, Inc., Brighton, MI

NAFTA-TAA-03508; Louisiana Pacific Corp., Ketchikan Pulp Co., Ketchiken Pulp Div., Ketchikan, AK

NAFTA-TAA-03694; Noblesville Casting, Inc., Noblesville, IN

NAFTA-TAA-03681; Smiley Container Plant, Russell Stover Candies, Inc., Poplar Bluff, MO

The investigation revealed that the criteria for eligibility have not been met for the reasons specified.

NAFTA-TAA-3680; Sause Bros./Southern Oegon Marine, Inc., Coos Bay, OR

NAFTA-TAA-03671; Southeast Stevedoring Corp., Port of Metlakatla, AK

NAFTA-TAA-03529; Cerplex, Corvallis, OR

NAFTA-TAA-03670; PacifiCorp., Shareholder Services and Investor Relations Dept., Portland, OR

The investigation revealed that workers of the subject firm did not produce an article within the meaning of Section 250(a) of the Trade Act, as amended.

NAFTA-TAA-03708; Wheat Montana Farms, Bakery and Warehouse, Three Forks, MT

The investigation revealed that criteria (2) has not been met. Sales or production did not decline during the relevant period as required for certification.

Affirmative Determinations NAFTA-TAA

NAFTA-TAA-03656; Bailey Creation, York, AL: November 30, 1998.

NAFTA-TAA-03542; Mobius, Inc., Eugene, OR: October 25, 1998.

NAFTA-TAA-03641; Thomas Bradford Whirt Co., Huntingdon, TN: December 23, 1998.

NAFTA-TAA-03703; Humpty Dumpty Potato Chips Co., Inc., Scarborough, ME: January 25, 1999.

NAFTA-TAA-03636; Standard-Cooper Automotive, Gaylord, MI: December 21, 1998.

NAFTA-TAA-03705; Thaw Corp., Snow Creek Div., Wenatchee, WA: January 28, 1999.

NAFTA-TAA-03654; Porta Systems Corp., North Hills Electronics, Glen Cove, NY: December 22, 1998.

NAFTA-TAA-03517; Georgia Pacific Corp., Superwood Div., Bemidji, MN: October 13, 1998.

NAFTA-TAA-03575; Asarco, Inc., Leadville, CO: November 10, 1998.

NAFTA-TAA-03446; Iron Horse Productions, Inc., Port Huron, MI: September 15, 1998.

NAFTA-TAA-03672; Miller International, Inc., Rocky Mountain Clothing Co., Rocky Ford, Co: January 14, 1999.

NAFTA-TAA-03660; Sony Electronics, Inc., Frackville, PA: January 6, 1999

NAFTA-TAA-03725; Ochoco Lumber Co; d/b/a Malheur Lumber Co., John Day, OR: February 8, 1999.

NAFTA-TAA-03666; Otis Elevator Co., Bloomington, IN: January 7, 1999.

NAFTA-TAA-03677; American Timber, Olney, MT: January 14, 1999.

NAFTA-TAA-03679; The Nordic Group, LLC, Hubbard, OR: January 14, 1999.

NAFTA-TAA-03698; The Nordic Group, LLC, Vancouver, WA: January 25, 1999.

NAFTA-TAA-03767; ISA Cutting Room Services, El Paso, TX: February 16, 1999.

I hereby certify that the aforementioned determinations were issued during the month of February and March, 2000. Copies of these determinations were available for inspection in Room C-4318, U.S. Department of Labor, 200 Constitution Avenue, NW., Washington, DC 20210 during normal business hours or will be mailed to persons who write to the above address;

Dated: March 8, 2000.
Grant D. Beale,
Program Manager, Division of Trade Adjustment Assistance

[FR Doc. 00-6659 Filed 3-16-00; 8:45 am]

BILLING CODE 4510-30-M